SMALL BUSINESS ADMINISTRATION

Delegation of Authority; Delegation of Authority No. 12-A (Revision 5) Re-delegation of Financial Assistance; Amendment 3

AGENCY: U.S. Small Business Administration.

ACTION: Notice of Amendment to Delegation of Authority.

SUMMARY: This document provides the public notice of an amendment to Delegation of Authority No. 12-A (Revision 5) (56 FR 55147, October 24, 1991) (the “Delegation”), which delegated authority regarding the Small Business Administration's (SBA's) lending and financial assistance programs. This document amends the Delegation to allow certain authority granted therein to be re-delegated and to update the position title of Assistant Administrator for Financial Assistance. SBA is providing this limited re-delegation to facilitate secondary market sales of Certified Development Company (“CDC”) debentures and guaranteed certificate issuance.

FOR FURTHER INFORMATION CONTACT: Ingrid Ripley, Program Analyst, U.S. Small Business Administration, 409 3rd Street SW., Washington, DC 20416; telephone number: (202) 205-7538, facsimile number: (202) 481-4020; and electronic mail: ingrid.ripley@sba.gov.

SUPPLEMENTARY INFORMATION: Delegation of Authority No. 12-A (Revision 5) (56 FR 55147, October 24, 1991) delegated certain authority regarding the Agency's financial assistance programs, including but not limited to, the authority “To take all necessary actions in connection with the sale of SBA guaranteed CDC debentures and SBA guaranteed certificates issued against pools of such debentures to the Federal Financing Bank or any other duly qualified purchaser as determined by SBA.” SBA is authorized to sell CDC debentures and issue guaranteed certificates under 15 U.S.C. 697a and b. The Delegation prohibited the re-delegation of the authority granted therein. (Paragraph III of the Delegation.) This document provides public notice that SBA hereby amends the Delegation to allow the authority delegated to the Assistant Administrator for Financial Assistance pursuant to paragraph I. A.1.d. covering sales of CDC debentures and guaranteed certificates to be re-delegated.

This document also revises the position title previously identified as “Assistant Administrator for Financial Assistance” to read “Director, Office of Financial Assistance (D/FA).” This revision to position title extends no new responsibilities to the position and aligns the current position title with its associated responsibilities.

Delegation of Authority No. 12-A (Revision 5), is amended to read as follows:

I. * * *

A. To the Director, Office of Financial Assistance (D/FA):

1. Financial Assistance Program

* * * * *

d. To take all necessary actions in connection with the sale of SBA guaranteed Certified Development Company debentures and SBA guaranteed certificates issued against pools of such debentures to any duly qualified purchaser as determined by SBA. This authority may be re-delegated.

* * * * *

III. The authority delegated herein may not be re-delegated unless authority to re-delegate has been specifically authorized. * * *

Dated: December 29, 2011.
Karen G. Mills,
Administrator.

[FR Doc. 2012-65 Filed 1-5-12; 8:45 am]

BILLING CODE 8025-01-P